FEDERAL COMMUNICATIONS COMMISSION

[FR ID 146369]

Open Commission Meeting Thursday, June 8, 2023

June 1, 2023.

The Federal Communications Commission will hold an Open Meeting on the subjects listed below on Thursday, June 8, 2023, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Public Safety and Homeland Security | Title: Advancing the Transition to Next Generation 911 (PS Docket No. 21-479).
|  | Summary: The Commission will consider a Notice of Proposed Rulemaking that would expedite the transition to NG911 and help ensure that the nation's 911 system functions effectively and with the most advanced capabilities available.
2 | Consumer and Governmental Affairs | Title: Strengthening Consumer Consent for Robocalls and Robotexts (CG Docket No. 02-278).
|  | Summary: The Commission will consider a Notice of Proposed Rulemaking proposing rules to strengthen the ability of consumers to decide which robocalls and robotexts they wish to receive by exercising their right to grant and revoke consent to callers. The item also proposes to codify the Commission's past guidance on prior express consent to make these requirements more apparent to callers and consumers.
3 | Consumer and Governmental Affairs | Title: Access to Video Conferencing (CG Docket No. 23-161); Implementation of Sections 716 and 717 of the Communications Act of 1934, as Enacted by the Twenty-First Century Communications and Video Accessibility Act of 2010 (CG Docket No. 10-213); Telecommunications Relay Services and Speech-to-Speech Services for Individuals with Hearing and Speech Disabilities (CG Docket No. 03-123).
|  | Summary: The Commission will consider a Report and Order that would find that the accessibility requirements of section 716 of the Act and Part 14 of the Commission's rules apply to all services and equipment meeting the definition of “interoperable video conferencing service.” An accompanying Notice of Proposed Rulemaking would propose to amend Part 14 of the Commission's Rules to enhance the accessibility of interoperable video conferencing services and explore whether the Interstate Telecommunications Relay Services Fund can be used to support the integrated provision of relay service in video conferences.
4 | Wireless Telecommunications | Title: Shared Use of the 42-42.5 GHz Band (WT Docket No. 23-158); Use of Spectrum Bands Above 24 GHz For Mobile Radio Services (GN Docket No. 14-177).
|  | Summary: The Commission will consider a Notice of Proposed Rulemaking that would explore how spectrum in the 42 GHz band (42-42.5 GHz) might be made available through one of several innovative, non-exclusive spectrum access models which have the potential to provide solutions in this evolving space.
5 | Media | Title: Restricted Adjudicatory Matter.
|  | Summary: The Commission will consider a restricted adjudicatory matter.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2023-12141 Filed 6-6-23; 8:45 am]

BILLING CODE 6712-01-P